DEPARTMENT OF VETERANS AFFAIRS

[OMB Control No. 2900-0717]

Agency Information Collection Activity: Child Care Provider Information-For the Child Care Subsidy Program; Withdrawal

AGENCY: Human Resources and Administration/Operations, Security, and Preparedness, Department of Veterans Affairs.

ACTION: Notice; withdrawal.

SUMMARY: On Friday, September 13, 2024, the Human Resources and Administration/Operations, Security, and Preparedness, Department of Veterans Affairs (VA), published a notice in the Federal Register announcing an opportunity for public comment on the proposed collection Human Resources and Administration/Operations, Security, and Preparedness (VA Form 0730b). This notice was published in error; therefore, this document corrects that error by withdrawing this FR notice.

DATES: As of September 19, 2024, the FR notice (document number 2024-20802) published at 89 FR 75059 on Friday, September 13, 2024, is withdrawn.

FOR FURTHER INFORMATION CONTACT: Maribel Aponte, Office of Enterprise and Integration, Data Governance Analytics (008), 810 Vermont Ave. NW, Washington, DC 20006, (202) 202-461-8900, or email maribel.aponte@va.gov.

SUPPLEMENTARY INFORMATION: FR Doc. 2024-75059, published on September 13, 2024 (89 FR 75059), is withdrawn by this notice.

By direction of the Secretary.
Maribel Aponte,
VA PRA Clearance Officer, Office of Enterprise and Integration/Data Governance Analytics, Department of Veterans Affairs.

[FR Doc. 2024-21834 Filed 9-23-24; 8:45 am]

BILLING CODE 8320-01-P